DEPARTMENT OF HEALTH AND HUMAN SERVICES

Agency for Healthcare Research and Quality

Agency Information Collection Activities: Proposed Collection; Comment Request

AGENCY: Agency for Healthcare Research and Quality, Department of Health and Human Services.

ACTION: Notices.

SUMMARY: This notice announced the intention of the Agency for Healthcare Research and Quality (AHRQ) to request that the Office of Management and Budget (OMB) allow the proposed information collection project: “Eisenberg Center Voluntary Customer Survey Generic Clearance for the Agency for Healthcare Research and Quality.” In accordance with the Paperwork Reduction Act of 1995, Public Law 104-13 (44 U.S.C. 3506(c)(2)(A)), AHRQ invites the public to comment on this proposed information collection.

DATES: Comments on this notice must be received by September 5, 2006.

ADDRESSES: Written comments should be submitted to: Doris Lefkowitz, Reports Clearance Officer, AHRQ, 540 Gaither Road, Room #5036, Rockville, MD 20850.

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Eisenberg Center Voluntary Customer Survey Generic Clearance for the Agency for Healthcare Research and Quality.”

AHRQ's newly-established Eisenberg Center is an innovative effort aimed at improving communication of findings to a variety of audiences (“customers”), including consumers, clinicians, payers, and health care policy makers. The Eisenberg Center, one of three components of AHRQ's Effective Health Care Program announced in September 2005, is directed through a contract by the Oregon Health and Science University, Department of Medicine, located in Portland, Oregon. The Eisenberg Center intends to employ the latest survey research techniques to (1) determine how well its products and services are meeting customers' current and anticipated needs; (2) identify problem areas with existing products and services and determine what improvements should be made to improve these products and services; and (3) identify and develop new products and services.

To address customer requirements and to evaluate current and future AHRQ products and services, the Eisenberg Center must periodically determine how well the Eisenberg Center products and services are meeting customer's' current and anticipated needs. Work conducted under this clearance will improve the products and services the Center develops for AHRQ for a three year period. The health care environment changes rapidly and requires a quick response from AHRQ to provide appropriately refined products and services. A generic clearance for this work will facilitate AHRQ's timely response to customers' needs.

Methods of Collection

Participation in survey testing will be fully voluntary and non-participation will have not affect on eligibility for, or receipt of, future AHRQ health services research support, on future opportunities to participate in research or to obtain informative research results. Specific estimation procedures, when used, will be described when we notify OMB as to actual studies conducted under the clearance.

Estimated Annual Respondent Burden
Type of survey | Number of respondents | Average hours per response | Total hours
Focus groups for needs assessment | 30 | 1 | 30
Individual interviews for needs assessment | 50 | .75 | 37.5
Formative focus groups for information tools | 120 | 1 | 120
Cognitive testing of information tools | 500 | 1 | 500
Clinician interview for information tools | 160 | .75 | 120
Decision aid laboratory testing | 100 | 1 | 100
Formative focus groups for decision aids | 60 | 1 | 60
Automated/web-based surveys for product evaluation | 600 | .163 | 98
Telephone interviews for product evaluation | 100 | 1 | 100
Focus groups for product evaluation | 20 | 1 | 20
Totals | 1,740 | NA | 1,186

Estimated Costs to the Federal Government

The maximum cost to the Federal Government is $750,000 annually for FY 2007, FY 2008, and FY 2009. Most of the work will be carried out through contracts. The costs were estimated to $200 for each face-to-face interview, $100 for each telephone interview, $5,000 for each focus group, $10,000 for web-based surveys, and $20,000 for each laboratory testing module. Any deviation from these limits will be noted in reports made to OMB with respect to a particular study or studies conducted under the clearance.

Request for Comments

In accordance with the above-cited legislation, comments on AHRQ's information collection are requested with regard to any of the following: (a) Whether the proposed collection of information is necessary for the proper performance of health care information dissemination functions of AHRQ, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted response to this notice will be summarized and included in the request for OMB approval of the proposed information collection. All comments will become a matter of public record.

Dated: June 23, 2006.
Carolyn M. Clancy,
Director.

[FR Doc. 06-5960 Filed 7-3-06; 8:45 am]

BILLING CODE 4160-90-M